DEPARTMENT OF LABOR

Employment and Training Administration

[TA-W-50,105]

Ericsson, Inc., Base Station and Systems Development Division, Research Triangle Park, NC; Notice of Negative Determination Regarding Application for Reconsideration

By application received on March 14, 2003, a company official requested administrative reconsideration of the Department's negative determination regarding eligibility for workers and former workers of the subject firm to apply for Trade Adjustment Assistance (TAA). The denial notice applicable to workers of Ericsson, Inc., Base Station and Systems Development Division, Research Triangle Park, North Carolina was signed on February 21, 2003, and published in the Federal Register on March 10, 2003 (68 FR 11409).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition was filed on behalf of workers at Ericsson, Inc., Base Station and Systems Development Division, Research Triangle Park, North Carolina engaged in activities related to the design and testing of software and hardware for radio base stations. The petition was denied because the petitioning workers did not produce an article within the meaning of section 222(3) of the Act.

The company official alleges that the initial negative determination was based on a “misunderstanding of activities at the subject firm.” She continues that workers at Ericsson, Inc., Base Station and Systems Development Division, Research Triangle Park, North Carolina were “engaged in the design and development of base station transceivers”. The official also states that what was delivered to the internal customer involved “precise drawings and assembly instructions which enabled the product to be manufactured, shipped and to fulfill orders for customers.” The official concludes that layoffs at the subject firm are attributed to design and development functions being transferred abroad.

In fact, there was no misunderstanding of the nature of the functions performed at the subject facility. Design and development services do not constitute production within the meaning of section 222 of the Trade Act. As a result of this, the transfer of job functions is irrelevant.

Only in very limited instances are service workers certified for TAA, namely the worker separations must be caused by a reduced demand for their services from a parent or controlling firm or subdivision whose workers produce an article and who are currently under certification for TAA.

In conclusion, the workers at the subject firm did not produce an article within the meaning of section 222(3) of the Trade Act 1974.

Conclusion

After review of the application and investigative findings, I conclude that there has been no error or misinterpretation of the law or of the facts which would justify reconsideration of the Department of Labor's prior decision. Accordingly, the application is denied.

Signed at Washington, DC, this 6th day of May, 2003.
Elliott S. Kushner,
Certifying Officer, Division of Trade Adjustment Assistance.

[FR Doc. 03-12422 Filed 5-16-03; 8:45 am]

BILLING CODE 4510-30-P